SELECTIVE SERVICE SYSTEM

Forms Submitted to the Office of Management and Budget for Extension of Clearance

AGENCY: Selective Service System.

ACTION: Notice.

The following forms have been sumbitted to the Office of Management and Budget (OMB) for extension of clearance in compliance with the Paperwork Reduction Act (44 U.S. Chapter 35):

SSS Form No. and Title:

SSS Form 152, Alternative Service Employment Agreement

SSS Form 153, Employer Data Sheet

SSS Form 156, Skills Questionnaire

SSS Form 157, Alternative Service Job Data Form

SSS Form 160, Request for Overseas Job Assignment

SSS Form 163, Employment Verification Form

SSS Form 164, Alternative Service Worker Travel Reimbursement Request

SSS Form 166, Claim for Reimbursement for Emergency Medical Care

Copies of the above identified forms can be obtained upon written request to the Selective Service System, Reports Clearance Officer, 1515 Wilson Boulevard, Arlington, Virginia, 22209-2425.

No changes have been made to the above identified forms. OMB clearance is limited to requesting a three-year extension of the current expiration dates.

Written comments should be sent within 60 days after the publication of this notice, to: Selective Service System, Reports Clearance Officer, 1515 Wilson Boulevard, Arlington, Virginia, 22209-2425.

A copy of the comments should be sent to Office of Information and Regulatory Affairs, Attention: Desk Officer, Selective Service System, Office of Management and Budget, New Executive Office Building, Room 3235, Washington, DC 20435.

Dated: June 1, 2005.
William A. Chatfield,
Director.

[FR Doc. 05-11896 Filed 6-15-05; 8:45 am]

BILLING CODE 8015-01-M